DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer at (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Recovery Services for Adolescents and Families—New

The Substance Abuse and Mental Health Services Administration's (SAMHSA) Center for Substance Abuse Treatment will conduct a data collection on the helpfulness of recovery support services for young people and their families after leaving substance abuse treatment. Specifically, the Recovery Services for Adolescents and Families (RSAF) project is trying to understand whether or not young people and their families find the following recovery support services helpful: (1) Telephone/text message support; (2) a recovery-oriented social networking site; and (3) a family program. Approximately 200 adolescent respondents will be asked to complete 4 data collection forms (some repeated) during 5 interviews (baseline and 4 follow-ups) over a 12 month period after enrollment or discharge from treatment. Approximately 200 collateral respondents (i.e., a parent/guardian/concerned other) will be asked to complete 7 data collection forms (some repeated) during 5 interviews (baseline and 4 follow-ups) over a 12 month period after their adolescent's enrollment or discharge from treatment. Approximately 15 to 20 project staff respondents, including Project Coordinators, Telephone Support Volunteers, a Social Network Site Moderator, Family Program Clinicians, and a Support Services Supervisor, will be asked to complete between 2 and 5 data collection forms at varying intervals during the delivery of recovery support services. Across all respondents, a total of 26 data collection forms will be used. Depending on the time interval and task, information collections will take anywhere from about 5 minutes to 2 hours to complete. A description of each data collection form follows:

Follow-Up Locator Form—Participant (FLF-P; Adolescent Respondent). The FLF-P contains over 50 items that are a combination of yes/no, multiple choice, and open-ended formats. Data are gathered about an adolescent's contact information, personal contacts, criminal justice contacts, school/job contacts, hang-out information, internet contacts, and identifying information in order to locate and interview that adolescent over multiple follow-up intervals.

Global Appraisal of Individual Needs—Initial (GAIN-I 5.6.0 Full; Adolescent Respondent). The GAIN is an evidence-based assessment used with both adolescents and adults and in outpatient, intensive outpatient, partial hospitalization, methadone, short-term residential, long-term residential, therapeutic community, and correctional programs. There are over 1,000 questions in this initial version that are in multiple formats, including multiple choice, yes/no, and open-ended. Eight content areas are covered: Background, Substance Use, Physical Health, Risk Behaviors and Disease Prevention, Mental and Emotional Health, Environment and Living Situation, Legal, and Vocational. Each section contains questions on the recency of problems, breadth of symptoms, and recent prevalence as well as lifetime service utilization, recency of utilization, and frequency of recent utilization.

Global Appraisal of Individual Needs—Monitoring 90 Days (GAIN-M90 5.6.0 Full; Adolescent Respondent). The GAIN is an evidence-based assessment used with both adolescents and adults and in outpatient, intensive outpatient, partial hospitalization, methadone, short-term residential, long-term residential, therapeutic community, and correctional programs. There are over 500 questions in this follow-up version that are in multiple formats, including multiple choice, yes/no, and open-ended. Eight content areas are covered: Background, Substance Use, Physical Health, Risk Behaviors and Disease Prevention, Mental and Emotional Health, Environment and Living Situation, Legal, and Vocational. Each section contains questions on the recency of problems, breadth of symptoms, and recent prevalence as well as lifetime service utilization, recency of utilization, and frequency of recent utilization.

Supplemental Assessment Form (SAF 0309; Adolescent Respondent). The SAF contains 72 questions that are a combination of multiple choice, yes/no, and open-ended formats. Content areas include: Race, happiness with parent or caregiver in several life areas, participation in prosocial activities, receipt of and satisfaction with telephone support services, and usage of and satisfaction with the project's social networking site.

Follow-Up Locator Form—Collateral (FLF-C; Collateral Respondent). The FLF-C contains over 50 items that are a combination of yes/no, multiple choice, and open-ended formats. Data are gathered about a collateral's contact information, personal contacts, and job contacts in order to locate and interview that collateral over multiple follow-up intervals.

Global Appraisal of Individual Needs—Collateral Monitoring (GCI; Collateral Respondent). The GCI contains over 200 items in this initial version that are in multiple formats, including multiple choice, yes/no, and open-ended. The following content areas are covered: Relationship to the adolescent respondent, background, and the adolescent's background and substance use, environment and living situation, and vocational information. There are questions on the recency of problems, breadth of symptoms, and recent prevalence as well as lifetime service utilization, recency of utilization, and frequency of recent utilization.

Global Appraisal of Individual Needs—Collateral Monitoring (GCM 5.3.3; Collateral Respondent). The GCM contains over 200 items in this follow-up version that are in multiple formats, including multiple choice, yes/no, and open-ended. The following content areas are covered: Relationship to the adolescent respondent, background, and the adolescent's background and substance use, environment and living situation, and vocational information. There are questions on the recency of problems, breadth of symptoms, and recent prevalence as well as lifetime service utilization, recency of utilization, and frequency of recent utilization.

Supplemental Assessment Form—Collateral (SAF—Collateral; Collateral Respondent). The SAF contains 72 questions that are a combination of multiple choice, yes/no, and open-ended formats. Content areas include: Knowledge about the adolescent's participation in prosocial activities, receipt of and satisfaction with telephone support services, and usage of and satisfaction with the project's social networking site.

Self-Evaluation Questionnaire (SEQ; Collateral Respondent). The SEQ contains 40 multiple choice items that ask the collateral about feelings and symptoms of anxiety.

Family Environment Scale (FES; Collateral Respondent). The FES contains 18 yes/no items that measure family cohesion and conflict.

Relationship Happiness Scale (Caregiver Version) (Collateral Respondent). The Relationship Happiness Scale contains 8 items that ask the collateral about happiness with his/her relationship with the adolescent respondent in various life areas.

Eligibility Checklist (Project Coordinator). The Eligibility Checklist contains 12 yes/no items that are used to determine whether or not an adolescent meets inclusion/exclusion criteria for the project and is eligible to be approached for informed consent.

Follow-Up Contact Log (Project Coordinator). The Follow-Up Contact Log is open-ended and provides space for all data collected during attempted and completed follow-up contacts, over the phone and in-person, to be recorded.

Volunteer/Staff Survey (Project Coordinator). The Volunteer/Staff Survey contains 10 items in fill-in-the-blank, yes/no, and multiple choice formats. Items ask about background, demographic information, and role in the project.

Telephone Support Case Review Form (Telephone Support Volunteer). The Telephone Support Case Review Form contains multiple rows that allow a volunteer to record 5 pieces of data about adolescents that they make phone calls to: Initials, treatment discharge status/date, weeks since treatment discharge, date of last telephone session, and number of completed telephone sessions since discharge. This allows the volunteer and supervisor to monitor the progress of active cases.

Telephone Support Call Log (Telephone Support Volunteer). The Telephone Support Call Log is open-ended and provides space for all data collected during attempted and completed support contacts to be recorded.

Adolescent Telephone Support Documentation Form (Telephone Support Volunteer). The Adolescent Telephone Support Documentation Form contains 22 items that are asked of an adolescent during a telephone support contact by a volunteer. The form is used to record yes/no and open-ended responses to questions asking about substance use and recovery-related activities.

Telephone Support Discharge Form (Telephone Support Volunteer). The Telephone Support Discharge Form contains 10 fields to record the following information at the end of an adolescent's participation in telephone support: Adolescent name, today's date, volunteer name, notification date, telephone support intake date, telephone support discharge date, reason for discharge, number of completed sessions, referral for more intervention, and successful contact for more intervention.

Volunteer/Staff Survey (Telephone Support Volunteer)—See Volunteer/Staff Survey (Project Coordinator) above.

Social Networking Moderator Log (Social Network Site Moderator). The Social Networking Moderator Log contains 11 fields for the moderator to record usage data for the project's social networking site. The moderator tracks number of visits to the site, number of unique visitors, messages posted, chat room attendance, and problems with users.

Volunteer/Staff Survey (Social Network Site Moderator)—See Volunteer/Staff Survey (Project Coordinator) above.

Family Program Progress Notes (Family Program Clinician). The Family Program Progress Notes form is open-ended and provides space for all data collected during attempted and completed family program contacts to be recorded.

Family Program Attendance Log (Family Program Clinician). The Family Program Attendance Log is used to record 6 pieces of information about each attempted session: Session number, scheduled date, was the session rescheduled (yes/no), was the family member a no-show (yes/no), did the family member attend the session (yes/no), and comments.

Family Program Case Review Report (Family Program Clinician). The Family Program Case Review Report contains multiple rows that allow a clinician to record information that allows the clinician and supervisor to monitor the progress of active cases. Areas asked about include: Family program procedures delivered, date of last session, and weeks in family program.

Family Program Discharge Form (Family Program Clinician). The Family Program Discharge Form contains 9 fields to record the following information at the end of participation in the family program: Caregiver name, today's date, adolescent name, notification date, clinician name, family program intake date, family program discharge date, reason for discharge, and number of completed sessions.

Volunteer/Staff Survey (Family Program Clinician)—See Volunteer/Staff Survey (Project Coordinator) above.

Adolescent Telephone Support Quality Assurance Checklist (Support Services Supervisor). This checklist contains 43 items that ask the supervisor to rate how well a telephone support volunteer delivered required service components to adolescents. Volunteers are rated on a scale of 1 through 5 in the following areas: Substance use since last call (no use), substance use since last call (use), substance use since last call (still using), substance use since last call (stopped using), attendance at 12-step meetings, recovery-related activities, activities related to global health, follow-up since last call, closing the call, overall, general clinical skills, and overall difficulty of session.

Social Networking Quality Assurance Checklist (Support Services Supervisor). This checklist contains 17 items that ask the supervisor to rate how well a social networking site moderator delivered required service components to adolescents. The moderator is rated on a scale of 1 through 5 in the following areas: Group discussions, administrative tasks, overall, and general skills.

Family Program QA Checklist (Support Services Supervisor). This checklist contains 72 items that ask the supervisor to rate how well a family program clinician delivered required service components to family members. The clinician is rated on a scale of 1 through 5 in the following areas: Initial meeting motivational strategies, domestic violence precautions, functional analysis of substance use, positive communication skills, use of positive reinforcement, time out from positive reinforcement, allowing the identified patient to experience the natural consequences of substance use, helping concerned significant others' enrich their own lives, maintaining the identified patient in recovery-oriented systems of care, and general.

Volunteer/Staff Survey (Support Services Supervisor)—See Volunteer/Staff Survey (Project Coordinator) above.

The following table is a list of the hour burden of the information collection by form and by respondent:

Instrument/form | Number of respondents | Responses per respondent | Total responses | Hours per response | Total annualized hour burden per respondent *
Adolescent Respondent
FLF-P | 200 | 1 | 200 | .32 | .32
GAIN-I 5.6.0 Full | 200 | 1 | 200 | 2 | 2
GAIN-M90 5.6.0 Full | 200 | 4 | 800 | 1 | 4
SAF | 200 | 5 | 1000 | .25 | 1.25
Collateral (parent/guardian/concerned other) Respondent
FLF-C | 200 | 1 | 200 | .25 | .25
GCI | 200 | 1 | 200 | .25 | .25
GCM 5.3.3 | 200 | 4 | 800 | .25 | 1
SAF-Collateral | 200 | 5 | 1000 | .25 | 1.25
SEQ | 200 | 5 | 1000 | .16 | .8
FES | 200 | 5 | 1000 | .08 | .4
Relationship Happiness Scale (Caregiver) | 200 | 5 | 1000 | .08 | .4
Project Staff
Project Coordinator:
Eligibility Checklist | 4 | 50 | 200 | .25 | 12.5
Follow-Up Contact Log | 4 | 50 | 200 | .16 | 8
Volunteer/Staff Survey | 4 | 1 | 4 | .25 | .25
Telephone Support Volunteer:
Telephone Support Case Review Form | 8 | 450 | 3600 | .25 | 112.5
Telephone Support Call Log | 8 | 25 | 200 | .16 | 4
Adolescent Telephone Support Documentation Form | 8 | 450 | 3600 | .5 | 225
Telephone Support Discharge Form | 8 | 25 | 200 | .16 | 4
Volunteer/Staff Survey | 8 | 1 | 8 | .25 | .25
Social Network Site Moderator:
Social Networking Moderator Log | 1 | 52 | 52 | .5 | 26
Volunteer/Staff Survey | 1 | 1 | 1 | .25 | .25
Family Program Clinician:
Family Program Progress Notes | 4 | 650 | 2600 | .16 | 104
Family Program Attendance Log | 4 | 50 | 200 | .08 | 4
Family Program Case Review Report | 4 | 650 | 2600 | .25 | 162.5
Family Program Discharge Form | 4 | 50 | 200 | .16 | 8
Volunteer/Staff Survey | 4 | 1 | 4 | .25 | .25
Support Services Supervisor:
Adolescent Telephone Support QA Checklist | 1 | 12 | 12 | 1 | 12
Social Networking QA Checklist | 1 | 12 | 12 | .5 | 6
Family Program QA Checklist | 1 | 12 | 12 | 1 | 12
Volunteer/Staff Survey | 18 | 1 | 18 | .25 | .25
Column Total | 418 | 2580 |  |  | 713.67
* Total Annualized Hour Burden Per Respondent = Responses Per Respondent × Hours Per Response.

Send comments to Summer King, SAMHSA Reports Clearance Officer, Room 7-1044, 1 Choke Cherry Road, Rockville, MD 20857 AND e-mail her a copy at summer.king@samhsa.hhs.gov. Written comments should be received within 60 days of this notice.

Dated: May 11, 2009.
Elaine Parry,
Director, Office of Program Services.

[FR Doc. E9-11377 Filed 5-14-09; 8:45 am]

BILLING CODE 4162-20-P